DEPARTMENT OF HEALTH AND HUMAN SERVICES

Food and Drug Administration

[Docket No. FDA-2014-N-0001]

Advisory Committees; Filing of Closed Meeting Reports

AGENCY: Food and Drug Administration, HHS.

ACTION: Notice.

SUMMARY: The Food and Drug Administration (FDA) is announcing that, as required by the Federal Advisory Committee Act, the agency has filed with the Library of Congress the annual reports of those FDA advisory committees that held closed meetings during fiscal year 2014.

ADDRESSES: Copies are available at the Division of Dockets Management (HFA-305), Food and Drug Administration, 5630 Fishers Lane, Rm. 1061, Rockville, MD 20852, 240-402-7500. You also may access the docket at http://www.regulations.gov for the annual reports of those FDA advisory committees that held closed meetings during fiscal year 2014. Insert the docket number found in brackets in the heading of this document at http://www.regulations.gov into the “Search” box, clear filter under Document Type (left side of screen), and check “Supporting and Related Material,” then Sort By Best Match (from the drop-down menu; top right side of screen), “ID Number (Z-A)” or Sort By Best Match (from the drop-down menu) “Title (A-Z),” also found in the heading of this document.

FOR FURTHER INFORMATION CONTACT: Teresa L. Hays, Committee Management Officer, Advisory Committee and Oversight Management Staff, Food and Drug Administration, 10903 New Hampshire Ave., Silver Spring, MD 20993-0002, 301-796-8220.

SUPPLEMENTARY INFORMATION: Under section 10(d) of the Federal Advisory Committee Act (5 U.S.C. app.) and 21 CFR 14.60(d), FDA has filed with the Library of Congress the annual reports for the following FDA advisory committees that held closed meetings during the period October 1, 2013, through September 30, 2014:

Center for Biologics Evaluation and Research:

Blood Products Advisory Committee

Cellular, Tissue, and Gene Therapies Advisory Committee

Vaccines and Related Biological Products Advisory Committee

National Center for Toxicological Research:

Science Board to the National Center for Toxicological Research

Annual Reports are available for public inspections between 9 a.m. and 4 p.m., Monday through Friday at the following locations:

(1) The Library of Congress, Madison Bldg., Newspaper and Current Periodical Reading Room, 101 Independence Ave. SE., Rm. 133, Washington, DC; and

(2) The Dockets Management Branch (HFA-305), Food and Drug Administration, 5630 Fishers Lane, Rm. 1061, Rockville, MD 20852.

Dated: December 22, 2014.
Leslie Kux,
Associate Commissioner for Policy.

[FR Doc. 2014-30460 Filed 12-29-14; 8:45 am]

BILLING CODE 4164-01-P